DEPARTMENT OF THE INTERIOR

NATIONAL PARK SERVICE

[NPS-PWR-PWRO-0927-8529; 9082-S612-409]

Final Environmental Impact Statement for General Management Plan, Ross Lake National Recreation Area, North Cascades National Park Service Complex, Skagit and Whatcom Counties, WA

AGENCY: National Park Service, Interior.

ACTION: Notice of availability.

SUMMARY: Under the National Environmental Policy Act of 1969 and the Council on Environmental Quality Regulations, the National Park Service (NPS) has prepared a final environmental impact statement (Final EIS) for the proposed General Management Plan for Ross Lake National Recreation Area (Ross Lake NRA) in Washington State. This Final EIS describes and analyzes four alternatives for resource protection and preservation, education and interpretation, visitor use and facilities, land protection and boundaries, and long-term operations and management of the Ross Lake NRA.

SUPPLEMENTARY INFORMATION: The original public information process began in September 2006 when the NPS produced and distributed an initial newsletter announcing the start of the planning process and soliciting feedback on issues to be addressed in park planning. The Notice of Intent formally announcing preparation of a draft environmental impact statement and general management plan (GMP) was published in the Federal Register on October 30, 2006. The NPS released details about the public scoping period and invited public comment through direct mailings and correspondence, press releases, public workshops and informal meetings, the NPS Planning, Environment, and Public Comment (PEPC) Web site and the Ross Lake NRA Web site. A comprehensive scoping outreach effort was planned to elicit early public comment regarding issues and concerns, the nature and extent of potential environmental impacts, and possible alternatives that should be addressed in the preparation of the GMP. NPS staff produced and mailed a newsletter to approximately 350 individuals and entities on the mailing list.

Agencies, organizations, governmental representatives, and tribal governments were sent letters of invitation to attend the public workshops or individual meetings. Press releases were distributed to local and regional news media. The project was launched on the NPS PEPC Web site: http://parkplanning.nps.gov/rola, providing access to information about the Ross Lake NRA GMP and a method for taking public comments. News articles featuring the public workshops were written in the local Courier Times and East Skagit Community News and announced on private and public radio stations. The public was invited to submit comments by regular mail, email, fax, online, and at public workshops and individual meetings.

The NPS held seven public workshops in western Washington and British Columbia in October 2006 to provide the public with an opportunity to learn about the general management planning project and to offer comments. During the scoping period, the NPS received correspondence from over 80 individuals and organizations that provided a total of over 750 specific comments. All comments received were reviewed and considered by the NPS interdisciplinary planning team for the preparation of this GMP. The NPS conducted an additional round of public involvement at the draft alternatives phase of the planning process to ensure that the public fully comprehended the range of draft alternatives and was able to comment effectively on the draft alternatives. The primary purpose of this planning step was to understand the public's concerns and preferences with regard to the range of draft alternatives and to assist the planning team in refining the draft alternatives and selecting a preferred alternative. NPS produced and mailed the Draft Alternatives Newsletter to approximately 450 contacts on Ross Lake NRA's mailing list and announced this planning step on the NPS Web sites. The newsletter fully outlined the concepts and actions in the draft alternatives and proposed management zones.

Public review of draft alternatives ran from February 2008 through April 2008. The NPS held four public workshops in Concrete, Sedro-Woolley, Bellingham, and Seattle in February and March 2008. Seventy people participated in the public workshops and provided oral comments. A total of 539 individual comments were received on the draft alternatives and covered a broad range of topics, issues, and recommendations for Ross Lake NRA. All comments received were again reviewed and considered by the NPS interdisciplinary planning team for the preparation of this GMP.

The NPS invited public comments on the Skagit Wild and Scenic River Eligibility and Suitability Studies in fall 2008. The primary purpose of this public comment period was to understand the public's concerns about the preliminary eligibility findings and potentially designating the river segments as wild and scenic rivers. This was an extra planning step designed to provide the public with opportunities to focus on the Skagit wild and scenic studies. A newsletter was sent to approximately 450 contacts and announced this planning step on NPS Web sites and through press releases. Thirty people attended the two public meetings held on October 14, 2008 in Seattle, WA and October 15, 2008 in Sedro-Woolley, WA. Written comments were received from 52 organizations and individuals. The information gathered was used in formulating and refining the Skagit Wild and Scenic River Eligibility and Suitability Studies.

Public review of Draft EIS/GMP began on July 1, 2010 and ended September 30, 2010. A Notice of Availability was published in the Federal Register on July 16, 2010. The Draft EIS/GMP and information about how to provide public comments were made available on the NPS Web sites on July 1, 2010. During early July 2010, the NPS distributed approximately 160 copies of the complete document to the state's congressional offices, local tribes, governmental agencies, and other interested organizations and individuals. The NPS also produced and mailed the Executive Summary Newsletter #3 to over 900 contacts on the mailing list. The newsletter fully outlined the four alternatives and encouraged the public to participate in the planning process. The public had opportunities to provide comments through attending a public open house, submitting comments on the NPS PEPC Web site, writing a letter or email, or providing comments on the postage paid comment form enclosed in the newsletter. Dates, times, and locations for the public open houses were clearly listed in the newsletter and on the NPS Web sites. Contact information for the public to either request more planning materials and/or comment on the draft plan was also printed in the newsletter and available on the web.

Press releases were prepared and mailed to local media in advance of the public open houses by the North Cascades NPS Complex staff, and a series of posters were distributed to approximately 35 locations throughout Ross Lake National Recreation Area and the region announcing the public open houses and requesting public comment.

The NPS held six public open houses in Sedro-Woolley, Marblemount, Newhalem, Seattle, Bellingham, and Winthrop in July 2010. Seventy-seven people participated in these public open houses and provided oral comments. The National Park Service received over 1,600 comments on the draft plan by mail, email, fax, hand delivery, oral transcript, and the Internet via the NPS PEPC Web site. A number of groups and individuals submitted duplicate comments by different means, and several people commented up to four times. Of the comments received, 7 were from agencies and elected officials, 5 from businesses, and 22 from organizations. The remaining comments were from individuals. The Environmental Protection Agency (EPA) assigned a “Lack of Objections” rating to the Draft EIS.

Comments were analyzed and grouped into broad categories. Major areas of emphasis included: alternatives, connection to the “National Park,” boundary modifications, visitor experience, facilities, resource management, wilderness, Skagit Wild and Scenic River Eligibility and Suitability Studies, partnerships, operations, and planning. Substantive comments have been addressed in the FEIS. Changes incorporated in the GMP as result of public comments are shown in the FEIS with gray highlight or text that is in strikeout. The alternatives have been revised or clarified for the following topics: management zones, grizzly bear core area, motor boats, sport climbing, seaplanes, the bridge over the Skagit River in Newhalem, campgrounds, trails, concessions, the land acquisition associated with Diablo Townsite. Moreover, a name change from Ross Lake National Recreation Area to North Cascades National Recreation Area has been added. This list does not include those changes made to clarify points, provide additional rationale for decisions, or correct minor errors or omissions.

Proposed Plan and Alternatives

Alternative A is the No Action Alternative and assumes that existing programming, facilities, staffing, and funding would generally continue at their current levels. The No Action Alternative is required by the National Environmental Policy Act and also serves as a baseline for comparison in evaluating the changes and impacts of the other three alternatives. The emphasis of the No Action Alternative would be to protect the values of Ross Lake NRA without substantially increasing staff, programs, funding supporting, or facilities. Resource preservation and protection would continue to be high priority for the management of Ross Lake NRA. Staff would continue to work with neighboring agencies for collaborative ecosystem management.

Management of visitor use and facilities would generally continue through existing levels and types of service and regulation. Additional visitor facilities, such as new buildings, structures, roads, parking areas, camping areas, and trails, would not be constructed. The park would react to catastrophic events and destruction of visitor facilities on a case-by-case basis, which could result in a net loss of visitor facilities.

Alternative B (agency preferred) focuses on managing Ross Lake NRA as a gateway to millions of acres of wilderness, providing enhanced visitor opportunities along the North Cascades Highway, and making better use of facilities along that corridor, while ensuring the long term stewardship of natural resources, cultural resources, and wilderness. The North Cascades Highway corridor would be managed to provide a variety of day-use and overnight recreational opportunities for visitors with a range of abilities and interests. Management of wilderness and backcountry areas would focus on ecosystem preservation and compatible recreational activities. Interpretation and education would emphasize hands-on experiential learning and stewardship programs delivered by both the NPS and its partners.

Recreation in Ross Lake NRA would be enhanced along the North Cascades Highway corridor through the addition of limited new facilities, including dayhiking trails, reconfigured parking areas, a new Wilderness Information Center, and the modest expansion of overnight facilities and concessions. Recreation in the wilderness and backcountry areas of Ross Lake NRA, including Ross Lake, would focus on providing visitors with opportunities for solitude and connections with the natural world. Self-propelled and non-mechanized recreation would be encouraged throughout Ross Lake NRA. Regulations for motorized water recreation would work to maintain the ambient character and experience on the lakes and the Skagit River, while also moving towards cleaner technologies. An online permit system would allow visitors the opportunity for advance trip planning. In the event of a catastrophic event and the destruction of visitor facilities, the NPS would strive to offer similar visitor facilities in the vicinity while ensuring no net loss of visitor opportunities. If Seattle City Light determines that the Hollywood area of Diablo Townsite is no longer necessary for hydropower operations in the future, the NPS would work to acquire that land. Alternative B is also considered the “environmentally preferred” course of action.

Alternative C emphasizes the role of Ross Lake NRA in preserving the greater North Cascades ecosystem, which includes two additional National Park System units, two national forests, as well as provincial parks and protected areas across the Canadian border. Park management and education efforts would focus on broader ecosystem preservation and enhancement through coordinated regional and international environmental stewardship. The focus of visitor experiences would be linked to solitude, tranquility, natural soundscapes, and scenery through traditional outdoor activities. The NPS would actively manage to reduce habitat fragmentation throughout Ross Lake NRA by consolidating development, eliminating certain trails, and limiting construction of new facilities in undeveloped areas. Educational and interpretive opportunities would be primarily structured, and the NPS would increasingly rely on partners to deliver educational and interpretive programs both on-site and off-site.

Alternative C would provide visitors with recreational opportunities along the North Cascades Highway. However, there would be no net increase in miles of trail in Ross Lake NRA. In the backcountry and wilderness, Alternative C would focus on resource preservation and enhancement while limiting and/or restricting some recreational uses. Seaplanes would not be allowed to land on the lakes, and the NPS would recommend restricting commercial scenic air tours within Ross Lake NRA in order to protect and enhance soundscapes and wilderness character, experience, and values. In the event of a catastrophic weather event and the destruction of visitor facilities, natural geomorphological processes would be allowed to occur unimpeded wherever possible and affected facilities, including Colonial and Goodell Campgrounds, would be closed and restored to natural conditions.

Alternative D focuses on improving connections between visitors and the outdoors through a variety of enhanced recreation and learning opportunities. The emphasis of park management would be to diversify Ross Lake NRA's visitor base and build stewardship through more hands-on/experiential recreation and education opportunities. Interpretive and educational programs would be offered by both the NPS and partners with expanded offerings in the backcountry and limited areas of the wilderness zones. Park management would continue to protect resources and minimize impacts from visitor use.

Overnight accommodations, several new trails, and additional visitor amenities would expand visitor opportunities in Ross Lake NRA primarily along the North Cascades Highway corridor. The public functions of the Wilderness Information Center would be moved to an easily accessible location on Highway 20. A wide variety of recreational activities would be allowed throughout Ross Lake NRA, and there would be fewer restrictions on recreational activities than the other action alternatives. An online reservation and permit system would allow visitors the opportunity for advance trip planning. In the event of a catastrophic event and the destruction of visitor facilities, the NPS would close affected facilities and build new facilities on other locations to ensure no net loss of visitor opportunities.

Actions Common-to-All Action Alternatives

Several actions are common-to-all action alternatives (Alternatives B, C, and D). The NPS would recommend a name change for Ross Lake NRA to North Cascades National Recreation Area. Congressional legislation would be required to authorize this name change. Recreation activities, including hunting and hiking with dogs on trails, would continue. The Thunder Creek Potential Wilderness Area would be designated as wilderness through administrative action, as authorized in the Washington Park Wilderness Act of 1988 (Pub. L. 100-668, Title IV), and included in the Stephen Mather Wilderness. The NPS would recommend Congressional legislation for wild and scenic river designation of the Skagit River from Gorge Powerhouse downstream to the boundary of Ross Lake NRA, Goodell Creek, and Newhalem Creek. Climate change impacts and Ross Lake NRA's carbon footprint would be addressed through various strategies and actions including the reduction of emissions, use of green energy, adaptive management, and support for scientific research and educational programs.

The Final GMP/EIS is now available. Interested persons and organizations may obtain the Final EIS/GMP online at http://parkplanning.nps.gov/rola or by contacting Superintendent, North Cascades NPS Complex, 810 State Route 20, Sedro-Woolley, Washington 98284. A limited number of additional printed copies of this report are available from the mailing address above.

If you comment, before including your address, phone number, email address, or other personal identifying information in your comment, you should be aware that your entire comment—including your personal identifying information—may be made publicly available at any time. While you can ask us in your comment to withhold your personal identifying information from public review, we cannot guarantee that we will be able to do so.

Following the release of the Final GMP/EIS, a Record of Decision will be prepared not sooner than 30 days after the EPA has published its notice of filing of the document in the Federal Register. Notice of approval of the GMP would be similarly published. As a delegated EIS, the official responsible for the final decision is the Regional Director, Pacific West Region; subsequently the official responsible for implementation would be the Superintendent, North Cascades NPS Complex.

Dated: November 4, 2011.
Cynthia L. Ip,
Acting Regional Director, Pacific West Region.

[FR Doc. 2011-33398 Filed 12-28-11; 8:45 am]

BILLING CODE 4312-GX-P